DEPARTMENT OF COMMERCE

National Oceanic and Atmospheric Administration

Notice of Availability of a Draft Damage Assessment and Restoration Plan and Environmental Assessment for Natural Resource Injuries and Service Losses Associated With Hazardous Substance Releases Into Bayou Verdine and the Calcasieu River, in Calcasieu Parish, LA (“Bayou Verdine Site”)

AGENCY: National Oceanic and Atmospheric Administration (NOAA), Commerce.

ACTION: Notice of Availability of a Draft Damage Assessment and Restoration Plan and Environmental Assessment for natural resource injuries and service losses associated with hazardous substance releases into Bayou Verdine and the Calcasieu River, in Calcasieu Parish, Louisiana (“Bayou Verdine Site”); 60-day period for public comment on this plan begins March 27, 2009.

SUMMARY: Pursuant to 43 CFR 11.32 and 11.81-.82, notice is hereby given that a document entitled, “A Draft Damage Assessment and Restoration Plan and Environmental Assessment for the Bayou Verdine Site, Calcasieu Parish, Louisiana” (Draft DARP/EA) is available for public review and comment. This document has been prepared by the state and federal natural resource trustee agencies (the “Trustees”) to address natural resource injuries and resource services losses attributable to past releases of hazardous substances from two facilities situated in the upper Calcasieu Estuary, in Calcasieu Parish, Louisiana that are presently owned and operated by ConocoPhillips Company and Sasol North America Inc (collectively, the “potentially responsible parties” or “PRPs”). The Trustees include the National Oceanic and Atmospheric Administration (NOAA), Commerce; United States Fish & Wildlife Service, acting on behalf of the U.S. Department of the Interior (USFWS/DOI); Louisiana Department of Environmental Quality (LDEQ) and Louisiana Department of Wildlife and Fisheries (LDWF).

This Draft DARP/EA presents the Trustees' proposed assessment of natural resource injuries and service losses in the upper Calcasieu Estuary due to hazardous substances released from these facilities, and presents the restoration plan that the Trustees are proposing for use to compensate for these losses. The Trustees will consider comments received during the public comment period before adopting the final DARP/EA.

Deadline for Comments: Comments on the Draft DARP/EA must be submitted in writing on or before May 26, 2009.

ADDRESSES: Requests for copies of the Draft DARP/EA should be sent to John Rapp of NOAA at 1315 East-West Highway, SSMC3, F/HC3, Silver Spring, MD 20910, e-mail: Verdine.Comments@noaa.gov. The Draft DARP/EA is also available for downloading at http://www.darrp.noaa.gov (by clicking on the document title in the Bayou Verdine announcement on that page).

Comments on this plan are to be sent in writing to John Rapp of NOAA for receipt on or before May 26, 2009. These written comments may be submitted either by mail at the address provided above; by fax to 301-713-0184, or by e-mail to Verdine.Comments@noaa.gov.

SUPPLEMENTARY INFORMATION: Bayou Verdine is a shallow, sinuous bayou in the upper Calcasieu Estuary, southwest of the City of Westlake and slightly northwest of the City of Lake Charles, in Calcasieu Parish, LA. It originates in an agricultural area immediately north and northwest of petroleum facilities owned and operated by ConocoPhillips Company and Sasol North America Inc., and flows in a south-southeast direction through this industrialized segment before entering the Calcasieu River at Coon Island Loop. Historical operations at these two facilities have resulted in releases of hazardous substances, such as polynuclear aromatic hydrocarbons (PAHs), heavy metals, and other hazardous compounds, into Bayou Verdine and Coon Island Loop, within the Estuary.

The upper Calcasieu Estuary has been the focus of a number of past investigations related to contaminant releases and is the subject of several on-going response or corrective action planning processes under the direction or oversight of the U.S. Environmental Protection Agency (USEPA) and/or LDEQ. The most extensive effort to identify the nature and extent of hazardous substances present in the Estuary to date is the federal-lead Remedial Investigation (RI) of contaminants in sediments, surface water, and biota in the Calcasieu Estuary undertaken by the USEPA in 1999. Results from this investigation, combined with other relevant data and information, prompted the Trustees to pursue a natural resource damage assessment (NRDA) to determine and quantify resource injuries and losses in the Estuary attributable to hazardous substances from the PRPs' facilities, and to develop a restoration plan that would be sufficient to compensate for those losses. The Trustees' decision to proceed with this NRDA was identified in a “Notice Of Intent To Perform Damage Assessment & Develop Restoration Plan for Natural Resources Injured by Hazardous Substances in Bayou Verdine & Coon Island Loop in Calcasieu Parish, Louisiana” published September 26, 2004, in the American Press, a newspaper of general circulation in Calcasieu Parish, LA. That notice also invited public input regarding potential restoration opportunities in the watershed that the Trustees could consider in developing an appropriate restoration plan. The PRPs were cooperatively involved in the NRDA process as well, consistent with 43 CFR 11.32.

The Draft DARP/EA released today identifies the Trustees' proposed assessment of natural resource injuries and losses due to past releases from these facilities and identifies the restoration action which is preferred for use to restore, replace or acquire resources or services equivalent to those lost.

In undertaking this NRDA and in releasing this Draft DARP/EA, the Trustees are acting in accordance with their designation and authorities under section 107(f) of the Comprehensive Environmental Response, Compensation, and Liability Act (“CERCLA”), 42 U.S.C. § 9607(f), section 311 of the Federal Water Pollution and Control Act (FWPCA), 33 U.S.C. section 1321, Subpart G of the National Oil and Hazardous Substances Pollution Contingency Plan (NCP), 40 CFR sections 300.600-300.615, and regulations at 43 CFR part 11 that are applicable to natural resource damage assessments under CERCLA. The Trustees act on behalf of the public under these authorities to protect and restore natural resources injured or lost as a result of discharges or releases of hazardous substances.

FOR FURTHER INFORMATION CONTACT: John Rapp, at (301) 713-0174 x174, or e-mail: Verdine.Comments@noaa.gov.

Dated: March 9, 2009.
David G. Westerholm,
Director, Office of Response and Restoration, National Ocean Service, National Oceanic and Atmospheric Administration.

[FR Doc. E9-6693 Filed 3-25-09; 8:45 am]

BILLING CODE 3510-JE-P